DEPARTMENT OF HOMELAND SECURITY

U.S. Citizenship and Immigration Services

[CIS No. 2452-08; DHS Docket No. USCIS-2008-0029]

RIN 1615-ZA69

Extension of the Designation of Sudan for Temporary Protected Status; Automatic Extension of Employment Authorization Documentation for Sudanese TPS Beneficiaries

AGENCY: U.S. Citizenship and Immigration Services, Department of Homeland Security (DHS).

ACTION: Notice.

SUMMARY: This Notice announces that the Secretary of Homeland Security has extended the designation of Sudan for temporary protected status (TPS) for 18 months, from its current expiration date of November 2, 2008 through May 2, 2010. This Notice also sets forth procedures necessary for nationals of Sudan (or aliens having no nationality who last habitually resided in Sudan) with TPS to re-register with U.S. Citizenship and Immigration Services (USCIS) and to apply for an extension of their employment authorization documents (EADs) for the additional 18-month period. Re-registration is limited to persons who have previously registered for TPS under the designation of Sudan and whose applications have been granted or remain pending. Certain nationals of Sudan (or aliens having no nationality who last habitually resided in Sudan) who have not previously applied for TPS may be eligible to apply under the late initial registration provisions.

Given the timeframes involved with processing TPS re-registration applications, the Department of Homeland Security (DHS) recognizes the possibility that all re-registrants may not receive new EADs until after their current EADs expire on November 2, 2008. Accordingly, this Notice automatically extends the validity of EADs issued under the TPS designation of Sudan for six months, through May 2, 2009, and explains how TPS beneficiaries and their employers may determine which EADs are automatically extended. USCIS will issue new EADs with the May 2, 2010 expiration date to eligible TPS beneficiaries who timely re-register and apply for EADs.

DATES: The extension of the TPS designation of Sudan is effective November 3, 2008, and will remain in effect through May 2, 2010. The 60-day re-registration period begins August 14, 2008, and will remain in effect until October 14, 2008. To facilitate processing of applications, applicants are strongly encouraged to file as soon as possible after the start of the 60-day re-registration period beginning on August 14, 2008.

FOR FURTHER INFORMATION CONTACT: Claudia Young, Status and Family Branch, Office of Service Center Operations, U.S. Citizenship and Immigration Services, Department of Homeland Security, 20 Massachusetts Avenue, NW., 2nd Floor, Washington, DC 20529, telephone (202) 272-1533. This is not a toll-free call. Further information will also be available at local USCIS offices upon publication of this Notice and on the USCIS Web site at http://www.uscis.gov. Note: The phone number provided here is solely for questions regarding this TPS notice. It is not for individual case status inquiries. Applicants seeking information about the status of their individual case can check Case Status Online available at the USCIS Web site listed above, or applicants may call the USCIS National Customer Service Center at 1-800-375-5283 (TTY 1-800-767-1833).

SUPPLEMENTARY INFORMATION:

Abbreviations and Terms Used in This Document

Act—Immigration and Nationality Act

ASC—USCIS Application Support Center

DHS—Department of Homeland Security

DOS—Department of State

EAD—Employment Authorization Document

IDPs—Internally Displaced Persons

OSC—U.S. Department of Justice Office of Special Counsel for Immigration Related Unfair Employment Practices

SAF—Sudanese Armed Forces

Secretary—Secretary of Homeland Security

SPLM/A—Sudanese People's Liberation Movement/Army

TPS—Temporary Protected Status

USCIS—U.S. Citizenship and Immigration Services

What authority does the Secretary of Homeland Security have to extend the designation of Sudan for TPS?

Section 244(b)(1) of the Immigration and Nationality Act (Act), 8 U.S.C. 1254a(b)(1), authorizes the Secretary of Homeland Security (Secretary), after consultation with appropriate agencies of the Government, to designate a foreign State (or part thereof) for TPS.¹ The Secretary may then grant TPS to eligible nationals of that foreign State (or aliens having no nationality who last habitually resided in that State). Section 244(a)(1)(A) of the Act; 8 U.S.C. 1254a(a)(1)(A).

¹ As of March 1, 2003, in accordance with section 1517 of Title XV of the Homeland Security Act of 2002 (HSA), Public Law 107-296, 116 Stat. 2135, any reference to the Attorney General in a provision of the Immigration and Nationality Act describing functions which were transferred from the Attorney General or other Department of Justice official to the Department of Homeland Security by the HSA “shall be deemed to refer to the Secretary” of Homeland Security. See 6 U.S.C. 557 (2003) (codifying HSA, Title XV, section 1517).

At least 60 days before the expiration of the TPS designation, the Secretary, after consultations with appropriate agencies of the Government, must review the conditions in a foreign State designated for TPS and determine whether the conditions for the TPS designation continue to be met and, if so, must determine the length of an extension of the TPS designation. Section 244(b)(3)(A), (C) of the Act. If the Secretary determines that the foreign State no longer meets the conditions for the TPS designation, he must terminate the designation. Section 244(b)(3)(B) of the Act.

Why was Sudan initially designated for TPS?

On November 4, 1997, the Attorney General published a Notice in the Federal Register, at 62 FR 59737, designating Sudan for TPS based on an ongoing armed conflict and extraordinary and temporary conditions within that country. See Section 244(a)(b)(1)(A), (C) of the Act; 8 U.S.C. 1254a(b)(1)(A), (C).

When was the TPS designation for Sudan extended?

On November 3, 1998, the Attorney General extended the designation determining that the conditions warranting such designation continued to be met. 63 FR 59337.

On November 9, 1999, the Attorney General extended and re-designated Sudan by publishing a Notice in the Federal Register, at 64 FR 61128, based upon the ongoing armed conflict and extraordinary and temporary conditions within Sudan which had worsened.

After that date, the Attorney General and then the Secretary of Homeland Security (Secretary) extended the TPS designation of Sudan four times, determining in each instance that the conditions warranting the designation continued to be met. 65 FR 67407 (Nov. 9, 2000); 66 FR 46031 (Aug. 31, 2001); 67 FR 55877 (Aug. 30, 2002); 68 FR 52410 (Sept. 3, 2003).

On October 7, 2004, the Secretary extended and re-designated Sudan for TPS due to the intensification of the ongoing armed conflict in the Darfur region and the extraordinary and temporary conditions resulting from the ongoing conflict. 69 FR 60168.

After October 2004, the Secretary extended the TPS designation of Sudan two times, determining in each instance that the conditions warranting the designation continued to be met. 70 FR 52429 (Sept. 2, 2005); 72 FR 10541 (May 3, 2007). Thus, since the initial designation of Sudan for TPS in 1997, the Attorney General, and later, the Secretary, have extended—or re-designated and extended—TPS for Sudan a total of ten times, including this 2008 extension.

Why has the Secretary decided to extend the TPS designation for Sudan through May 2, 2010?

Over the past year, DHS and the Department of State (DOS) have continued to review conditions in Sudan. Based on this review, DHS has determined that an 18-month extension is warranted because the armed conflict is ongoing, and the extraordinary and temporary conditions that prompted the October 7, 2004, re-designation persist.

Armed conflict continues in the Darfur region of Western Sudan. Since early 2003, armed conflict has persisted between the government of Sudan and the Sudanese People's Liberation Movement/Army (SPLM/A). Furthermore, violence against civilians has continued, with reports of killings, rapes, beatings, looting and burning of property throughout the region, including at camps for internally displaced people. Deliberate targeting of civilians continues to be a hallmark of violence perpetrated by all parties to the conflict. Since the beginning of this conflict, approximately 2.45 million people have been forced to leave their homes and are internally displaced.

In Darfur and Southern Sudan, conditions remained the same or have worsened over the past year. By June 2008, implementation of the 2005 peace agreement had not advanced and key issues, particularly the status and future of Abyei, the division of oil revenues, border demarcation and deployment of armed forces remained unresolved. There were 280,000 newly displaced Sudanese (including 80,000 displaced in the first two months of 2008), bringing the total number of internally displaced persons (IDPs) to 2,387,000. Large-scale violence by the Sudanese government and its allies directed against civilians was reported, including an attack in February 2008 that killed 115 people and forced 30,000 from their homes. Additionally, a clash between the Sudanese Armed Forces (SAF) and SPLM/A in Abyei in May 2008 has displaced over 100,000 people. Moreover, violence has been increasingly directed against humanitarian workers, of whom 14,000 are presently in Darfur. This violence includes robberies, hijackings of humanitarian aid vehicles, and attacks on humanitarian facilities.

Based upon this review, the Secretary has determined, after consultation with the appropriate Government agencies, that the conditions that prompted the designation of Sudan for TPS continue to be met. See section 244(b)(3)(A) of the Act; 8 U.S.C. 1254a(b)(3)(A). An ongoing armed conflict and extraordinary and temporary conditions in Sudan prevent aliens who are nationals of Sudan (or aliens having no nationality who last habitually resided in Sudan) from returning in safety. The Secretary also finds that it is not contrary to the national interest of the United States to permit aliens who meet the eligibility requirements of TPS to remain in the United States temporarily. See section 244(b)(1)(C) of the Act. On the basis of these findings and determinations, the Secretary concludes that the designation of Sudan for TPS should be extended for an additional 18-month period. See section 244(b)(3)(C) of the Act. There are approximately 500 nationals of Sudan (or aliens having no nationality who last habitually resided in Sudan) who are eligible for TPS under this extended designation.

What actions should qualifying aliens take pursuant to this notice?

To maintain TPS, a national of Sudan (or an alien having no nationality who last habitually resided in Sudan) who was granted TPS and who has not had TPS withdrawn must re-register for TPS during the 60-day re-registration period from August 14, 2008 until October 14, 2008. To re-register, aliens must follow the filing procedures set forth in this Notice. An addendum to this Notice provides instructions on this extension, including filing and eligibility requirements for TPS and EADs. Information concerning the extension of the designation of Sudan for TPS also will be available at local USCIS offices upon publication of this Notice and on the USCIS Web site at http://www.uscis.gov.

Notice of Extension of the TPS Designation of Sudan

By the authority vested in me as Secretary of Homeland Security under section 244 of the Act, 8 U.S.C. 1254a, I have determined, after consultation with the appropriate Government agencies, that the conditions that prompted re-designation of Sudan for temporary protected status (TPS) on October 7, 2004, continue to be met. See section 244(b)(3)(A). Accordingly, I am extending the TPS designation of Sudan for 18 months from November 3, 2008, through May 2, 2010.

Dated: August 6, 2008.
Michael Chertoff,
Secretary.

Temporary Protected Status Filing Requirements

Do I need to re-register for TPS if I currently have benefits through the designation of Sudan for TPS, and would like to maintain them?

Yes. If you already have received TPS benefits through the TPS designation of Sudan, your benefits will expire on November 2, 2008. All TPS beneficiaries must comply with the re-registration requirements described in this Notice in order to maintain TPS benefits through May 2, 2010. TPS benefits include temporary protection against removal from the United States and employment authorization during the TPS designation period. Section 244(a)(1) of the Act; 8 U.S.C. 1254a(a)(1). Failure to re-register without good cause will result in the withdrawal of your temporary protected status and possibly your removal from the United States. Section 244(c)(3)(C) of the Act; 8 U.S.C. 1254a(c)(3)(C).

If I am currently registered for TPS or have a pending application for TPS, how do I re-register to renew my benefits for the duration of the extension period?

Please submit the proper forms and fees according to Tables 1 and 2 below. The following are some helpful tips to keep in mind when completing your application:

• All applicants are strongly encouraged to pay close and careful attention when filling out the required forms to help ensure that their dates of birth, alien registration numbers, spelling of their names, and other required information is correctly entered on the forms.

• All questions on required forms should be fully and completely answered. Failure to fully complete each required form may result in a delay in processing of your application.

• Aliens who have previously registered for TPS, but whose applications remain pending, should follow the filing instructions in this Notice if they wish to renew their TPS benefits.

• All TPS re-registration applications submitted without the required fees will be returned to applicants.

• All fee waiver requests should be filed in accordance with 8 CFR 244.20.

• If you received an EAD during the most recent registration period, please submit a photocopy of the front and back of your EAD.

Table 1—Application Forms and Application Fees
If— | And— | Then—
You are re-registering for TPS | You are applying for an extension of your EAD valid through May 2, 2010 | You must complete and file the Form I-765, Application for Employment Authorization, with the fee of $340 or a fee waiver request. You must also submit Form I-821, Application for Temporary Protected Status, with no fee.
You are re-registering for TPS | You are Not applying for renewal of your EAD | You must complete and file the Form I-765 with no fee and Form I-821 with no fee. Note: Do Not check any box for the question “I am applying for” listed on Form I-765, as you are Not requesting an EAD benefit.
You are applying for TPS as a late initial registrant (see below) and you are between the ages of 14 and 65 (inclusive) | You are applying for a TPS-related EAD | You must complete and file Form I-821 with the $50 fee or fee waiver request and Form I-765 with the fee of $340 or a fee waiver request.
You are applying for TPS as a late initial registrant and are under age 14 or over age 65 | You are applying for a TPS-related EAD | You must complete and file Form I-821 with the $50 fee or fee waiver request. You must also submit Form I-765 with no fee.
You are applying for TPS as a late initial registrant, regardless of age | You are Not applying for an EAD | You must complete and file Form I-821 with the $50 fee or fee waiver request and Form I-765 with no fee.
Your previous TPS application is still pending | You are applying to renew your temporary treatment benefits (i.e., an EAD with category “C-19” on its face) | You must complete and file the Form I-765 with the fee of $340 or a fee waiver request. You must also submit Form I-821, with no fee.

Certain applicants must also submit a Biometric Service Fee (See Table 2).

Table 2—Biometric Service Fee
If | And | Then
You are 14 years of age or older | 1. You are re-registering for TPS, or 2. You are applying for TPS under the late initial registration provisions, or | You must submit a Biometric Service fee of $80 or a fee waiver request.
| 3. Your TPS application is still pending and you are applying to renew temporary treatment benefits (i.e., EAD with category ``C-19'' on its face) |
You are younger than 14 years of age | 1. You are applying for an EAD, or 2. You are Not applying for an EAD | You do Not need to submit a Biometric Service fee.

What edition of the forms should I submit?

Only versions of Form I-821 dated October 17, 2007, or later will be accepted. Only versions of Form I-765 dated May 27, 2008, or later will be accepted. The revision date can be found in the bottom right corner of the form. The proper forms can be found on the Internet at http://www.uscis.gov or by calling the USCIS forms hotline at 1-800-870-3676.

Where should I submit my application for TPS?

Please mail your application for TPS to the following address: U.S. Citizenship and Immigration Services, Attn: TPS Sudan, P.O. Box 8677, Chicago, IL 60680-8677.

Or, for courier deliveries, please mail your application to: U.S. Citizenship and Immigration Services, Attn: TPS Sudan, 131 S. Dearborn—3rd Floor, Chicago, IL 60603-5517.

Can I file my application electronically?

If you are filing for re-registration and do not need to submit supporting documentation (see Table 3) with your application, you may file your application electronically. To file your application electronically, follow directions on the USCIS Web site at: http://www.uscis.gov.

How will I know if I need to submit supporting documentation with my application package?

See Table 3 below to determine if you need to submit supporting documentation.

Table 3—Who Should Submit Supporting Documentation?
If | Then
One or more of the questions listed in Part 4, Question 2 of Form I-821 applies to you | You must submit an explanation, on a separate sheet(s) of paper, and/or additional documentation must be provided.
You were granted TPS by an Immigration Judge or the Board of Immigration Appeals | You must include evidence of the grant of TPS (such as an order from the Immigration Judge) with your application package.

How do I know if I am eligible for late registration?

You may be eligible for late initial registration under 8 CFR 244.2. In order to be eligible for late initial registration, you must:

(1) Be a national of Sudan (or an alien who has no nationality and who last habitually resided in Sudan);

(2) Have continuously resided in the United States since October 7, 2004;

(3) Have been continuously physically present in the United States since October 7, 2004; and

(4) Be both admissible as an immigrant, except as provided under section 244(c)(2)(A) of the Immigration and Nationality Act (Act), and not ineligible under section 244(c)(2)(B) of the Act.

Additionally, you must be able to demonstrate that during the registration period for the most recent re-designation (from October 7, 2004 to April 5, 2005), you:

(1) Were a nonimmigrant or had been granted voluntary departure status or any relief from removal;

(2) Had an application for change of status, adjustment of status, asylum, voluntary departure, or any relief from removal or change of status pending or subject to further review or appeal;

(3) Were a parolee or had a pending request for re-parole; or

(4) Are the spouse or child of an alien currently eligible to be a TPS registrant.

An applicant for late initial registration must file an application for late registration no later than 60 days after the expiration or termination of the applicable condition described above. 8 CFR 244.2(g). All late initial registration applications for TPS, pursuant to the designation of Sudan, should be submitted to the appropriate address listed above in Chicago, Illinois.

Are certain aliens ineligible for TPS?

Yes. There are certain criminal and terrorism-related inadmissibility grounds that render an alien ineligible for TPS. See section 244(c)(2)(A)(iii); 8 U.S.C. 1254a(c)(2)(A)(iii). Further, aliens who have been convicted of any felony or two or more misdemeanors committed in the United States are ineligible for TPS under section 244(c)(2)(B)(i) of the Act, as are aliens described in the bars to asylum in section 208(b)(2)(A) of the Act, 8 U.S.C. 1158(b)(2)(A). See section 244(c)(2)(B)(ii) of the Act; 8 U.S.C. 1254a(c)(2)(B)(ii).

If I currently have TPS, can I lose my TPS benefits?

TPS and related benefits will be withdrawn if you:

(1) Are not eligible for TPS;

(2) Fail to timely re-register for TPS without good cause; or

(3) Fail to maintain continuous physical presence in the United States. See sections 244(c)(3)(A)-(C) of the Act; 8 U.S.C. 1254a(c)(3)(A)-(C).

Does TPS lead to lawful permanent residence status?

No. TPS is a temporary benefit that does not lead to lawful permanent residence status or confer any other immigration status. Sections 244(f)(1) and (h) of the Act; 8 U.S.C. 1254a(f)(1), and (h).

If I am currently covered under TPS, what status will I have if my country's TPS designation is terminated?

When a country's TPS designation is terminated, TPS beneficiaries will maintain the same immigration status, if any, that they held prior to obtaining TPS (unless that status has since expired or been terminated), or any other status they may have acquired while registered for TPS. Accordingly, if you held no lawful immigration status prior to being granted TPS and did not obtain any other status during the TPS period, you will revert to unlawful status upon the termination of the TPS designation. Once the Secretary determines that a TPS designation should be terminated, aliens who had TPS under that designation, and who do not hold any other lawful immigration status, must plan for their departure from the United States.

May I apply for another immigration benefit while registered for TPS?

Yes. Registration for TPS does not prevent you from applying for non-immigrant status, filing for adjustment of status based on an immigrant petition, or applying for any other immigration benefit or protection. Section 244(a)(5) of the Act; 8 U.S.C. 1254a(a)(5). For the purposes of change of status, and adjustment of status, an alien is considered to be in, and maintaining, lawful status as a nonimmigrant during the period in which the alien is granted TPS. See section 244(f)(4) of the Act; 8 U.S.C. 1254a(f)(4). However, if an alien has periods of time when he or she had no lawful immigration status before, or after, the alien's time in TPS, those period(s) of unlawful presence may negatively affect that alien's ability to adjust to permanent resident status or attain other immigration benefits, depending on the circumstances of the specific case. See, e.g. , section 212(a)(9) of the Act; 8 U.S.C. 1182(a)(9) (unlawful presence ground of inadmissibility that is triggered by a departure from the United States). In some cases, the unlawful presence ground of inadmissibility, and certain other grounds of inadmissibility, may be waived when an alien applies to adjust to permanent resident status or for another immigration status.

How does an application for TPS affect my application for asylum or other immigration benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. See sections 244(b)(2)(A)(ii) and 244(c)(2)(B)(ii) of the Act; 8 U.S.C. 1158(b)(2)(A)(ii) and 8 U.S.C. 1254a(c)(2)(B)(ii).

Can a national of Sudan (or aliens having no nationality who last habitually resided in Sudan) who entered the United States after October 7, 2004 file for TPS?

No. This extension does not expand TPS eligibility to those that are not currently eligible. To be eligible for benefits under this extension, nationals of Sudan (or aliens having no nationality who last habitually resided in Sudan) must have continuously resided and have been continuously physically present in the United States since October 7, 2004, the date of the most recent re-designation of Sudan for TPS.

Employment Authorization Document Automatic Extension Guidelines

Who is eligible to receive an automatic six-month EAD extension from November 3, 2008, to May 2, 2009?

To receive an automatic six-month extension of an EAD, an individual must be a national of Sudan (or an alien having no nationality who last habitually resided in Sudan) who has applied for and received an EAD under the designation of Sudan for TPS and who has not had TPS withdrawn or denied. This automatic extension is limited to EADs issued on Form I-766, Employment Authorization Document, bearing an expiration date of November 2, 2008. These EADs must also bear the notation “A-12” or “C-19” on the face of the card under “Category.”

What documents should I bring to my ASC appointment?

TPS re-registrants will receive a notice in the mail with instructions as to whether or not they will be required to appear at a USCIS Application Support Center (ASC) for biometrics collection. To increase efficiency and improve customer service, whenever possible USCIS will use an individual's previously-captured biometrics and will conduct necessary security checks using those biometrics, such that you may not be required to appear at an ASC. Due to systems limitations, it may not be possible in every case to reuse biometrics.

However, even if you do not need to attend an ASC appointment, you are required to pay the separate biometrics fee. This fee will help cover the USCIS costs associated with use and maintenance of collected biometrics (such as fingerprints) for FBI and other background checks, identity verification and document production.

If you are required to report to an ASC, you must bring the following documents:

(1) Your receipt notice for your re-registration application;

(2) Your ASC appointment notice; and

(3) Your current EAD.

If no further action is required for your case, you will receive a new EAD by mail valid through May 2, 2010. If your case requires further resolution, USCIS will contact you in writing to explain what additional information, if any, is necessary to resolve your case. If your application is subsequently approved, you will receive a new EAD in the mail with an expiration date of May 2, 2010.

What if my address changes after I file my re-registration application?

If your address changes after you file your application for re-registration, you must complete and submit Form AR-11 by mail or electronically. The mailing address is:

USCIS, Change of Address, PO Box 7134, London, KY 40742-7134.

Form AR-11 can also be filed electronically by following the directions on the USCIS Web site at: http://www.uscis.gov. To facilitate the processing of your address change on your TPS application, you may call the USCIS National Customer Service Center at 1-800-375-5283 (TTY 1-800-767-1833) to request that your address be updated on your application. Please note that calling the USCIS National Customer Service Center does not relieve you of your burden to properly file a Form AR-11 with USCIS.

May I request an interim EAD at my local District Office?

No. USCIS will not issue interim EADs to TPS applicants and re-registrants at District Offices. Interim EADs may only be issued at the Vermont Service Center.

How may employers determine whether an EAD has been automatically extended for six-months through May 2, 2009, and therefore acceptable for completion of the Form I-9, Employment Eligibility Verification?

An EAD that has been automatically extended by this Notice through May 2, 2009, will bear the notation “A-12” or “C-19” on the face of the Form I-766 under “Category,” and will have an expiration date of November 2, 2008, printed on the face of the card. New EADs or extension stickers showing the May 2, 2009, expiration date of the six-month automatic extension will not be issued. Employers should not request proof of Sudanese citizenship.

Employers should accept an EAD as a valid “List A” document and not ask for additional Form I-9 documentation if presented with an EAD that has been extended pursuant to this Federal Register Notice, so long as the EAD reasonably appears on its face to be genuine and to relate to the employee. This extension does not affect the right of an applicant for employment or an employee to present any legally acceptable document as proof of identity and eligibility for employment.

Note to Employers

Employers are reminded that the laws requiring employment eligibility verification and prohibiting unfair immigration-related employment practices remain in full force. This Notice does not supersede or in any way limit applicable employment verification rules and policy guidance, including those setting forth re-verification requirements. For questions, employers may call the USCIS Customer Assistance Office at 1-800-357-2099. Also, employers may call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

How may employers determine an employee's eligibility for employment once the automatic six-month extension expires on May 2, 2009?

Eligible TPS aliens will possess an EAD on Form I-766 with an expiration date of May 2, 2010. The EAD will bear the notation “A-12” or “C-19” on the face of the card under “Category,” and should be accepted for the purposes of verifying identity and employment authorization.

What documents may a qualified individual show to his or her employer as proof of employment authorization and identity when completing Form I-9?

During the first six months of this extension, qualified individuals who have received a six-month automatic extension of their EADs by virtue of this Federal Register Notice may present their TPS-based EAD to their employer, as described above, as proof of identity and employment authorization through May 2, 2009. To minimize confusion over this extension at the time of hire or re-verification, qualified individuals may also present a copy of this Federal Register Notice regarding the automatic extension of employment authorization documentation through May 2, 2009. After May 2, 2009, a qualified individual may present a new EAD valid through May 2, 2010.

In the alternative, any legally acceptable document or combination of documents as listed on the Form I-9 may be presented as proof of identity and employment eligibility.

[FR Doc. E8-18826 Filed 8-13-08; 8:45 am]

BILLING CODE 9111-97-P